DEPARTMENT OF THE INTERIOR

Bureau of Land Management

[(610-5101-01-B109) CACA-40467]

Cadiz Groundwater Storage and Dry-Year Supply Program Proposed Pipeline and Plan Amendment, San Bernardino County, California

AGENCY: Bureau of Land Management, California Desert District.

ACTION: Notice of availability (NOA) of supplement to the draft environmental impact statement for proposed Cadiz Groundwater Storage and Dry-Year Supply Program Pipeline Right-of-Way and plan amendment.

SUMMARY: In compliance with the National Environmental Policy Act of 1969, notice is hereby given that the Bureau of Land Management has prepared a joint Supplement to the Draft Environmental Impact Statement (Supplement) and Draft Environmental Impact Report in conjunction with the Metropolitan Water District of Southern California (MWD). The Draft EIR/EIS, published in November 1999, evaluates a range of alternatives for conveying water between the Colorado River Aqueduct and the aquifer underlying the Cadiz and Fenner Valleys across a proposed right-of-way for a pipeline. A plan amendment to the California Desert Conservation Area Plan (1980) is also proposed to allow for the proposed right-of-way for the pipeline outside of an existing utility corridor. This Supplement provides additional information regarding management of groundwater resources and related air quality issues in response to comments on the Draft EIR/EIS.

The aim of the Cadiz Project is to ensure the reliability of Metropolitan's existing water supply in the Colorado River Aqueduct. The project would achieve this goal by storing Colorado River water in the Cadiz/Fenner aquifer and withdrawing the stored water along with indigenous groundwater during dry years. The project area is located in the eastern Mojave Desert region of San Bernardino County in the Cadiz and Fenner valleys and crosses federal land administered by the BLM.

SUPPLEMENTARY INFORMATION: Copies of the Supplement will be available for 45-day public review from October 20, 2000, through December 4, 2000, at the following locations:

Needles Branch Library, 1111 Bailey Avenue, Needles, California 92363

Twentynine Palms Branch Library, 6078 Adobe Road, Twentynine Palms, California 92277

Barstow Branch Library, 304 East Buena Vista, Barstow, California 92311

Norman Feldheym Central Library, 555 West 6th Street, San Bernardino, California 92410

Bureau of Land Management, Riverside Office, 6221 Box Springs Boulevard, Riverside, California 92507

Bureau of Land Management, Needles Office, 101 West Spike's Road, Needles, California 92363

Metropolitan Water District of Southern California, 700 North Alameda Street, Los Angeles, California 90012

DATES: Comments must be received in writing by the Metropolitan Water District or by the Bureau of Land Management no later than December 4, 2000.

ADDRESSES: Written comments on the Supplement should be mailed to: Metropolitan Water District of Southern California, Post Office Box 54153, Los Angeles, California 90054-0153, Attention: Mr. Jack Safely, or U.S. Bureau of Land Management, 6221 Box Springs Boulevard, Riverside, California 92507, Attention: Mr. James Williams.

FOR FURTHER INFORMATION CONTACT: Further information regarding the project may be obtained from Mr. Jack Safely at (213) 217-6981 or Mr. James Williams at (909) 697-5390.

Dated: October 17, 2000.
Douglas A. Romoli,
Acting District Manager.

[FR Doc. 00-27119 Filed 10-20-00; 8:45 am]

BILLING CODE 4310-40-P